DEPARTMENT OF COMMERCE

National Oceanic and Atmospheric Administration

50 CFR Part 635

RIN 0648-XB162

Atlantic Highly Migratory Species; Public Conference Call Regarding Recreational Yellowfin Tuna Fishery Data Collection

AGENCY: National Marine Fisheries Service (NMFS), National Oceanic and Atmospheric Administration (NOAA), Commerce.

ACTION: Notice of public conference call.

SUMMARY: In order to better inform the public and NMFS, a conference call that is open to the public will be held to discuss historical and future data collection in the U.S. recreational yellowfin tuna fishery and the relationship to international yellowfin tuna management (e.g., quota establishment or tracking landings).

DATES: An operator-assisted conference call that is open to the public will be held on April 27, 2012, from 10 a.m. to noon, EDT (phone number 888-593-8429; participant pass code 1629891). During this call, members of the public may ask questions and provide comments, after a brief background presentation.

FOR FURTHER INFORMATION CONTACT: Randy Blankinship at 727-824-5399 or Dianne Stephan at 978-281-9347.

SUPPLEMENTARY INFORMATION: Atlantic tunas are managed under the dual authority of the Magnuson-Stevens Fishery Conservation and Management Act (Magnuson-Stevens Act) and the Atlantic Tuna Conventions Act (ATCA), which authorizes the Secretary of Commerce (Secretary) to promulgate regulations as may be necessary and appropriate to implement recommendations of the International Commission for the Conservation of Atlantic Tunas (ICCAT). The authority to issue regulations under the Magnuson-Stevens Act and ATCA has been delegated from the Secretary to the Assistant Administrator for Fisheries, NOAA. On October 2, 2006, NMFS published in the Federal Register (71 FR 58058) final regulations, effective November 1, 2006, implementing the 2006 Consolidated Highly Migratory Species (HMS) Fishery Management Plan, which details the management measures for Atlantic HMS fisheries.

At its 2011 meeting, the International Commission for the Conservation of Atlantic Tunas (ICCAT) actively considered country-specific yellowfin tuna allocations, as well as the potential landings histories that could be the basis for those allocations. While the final recommendation did not establish any country-specific allocations, some members of the Atlantic Highly Migratory Species Advisory Panel and the public have expressed an interest in discussing historical and future data collection in the U.S. recreational yellowfin tuna fishery, in case the issue comes up at the 2012 ICCAT meeting.

NMFS is facilitating the public discussion of this topic through this public conference call. The purpose of this call is to discuss historical and future data collection in the U.S. recreational yellowfin tuna fishery and the relationship to international yellowfin tuna management (e.g., quota establishment or tracking landings). During the call, the background of recreational yellowfin tuna data collection—as well as recent international management developments—will be briefly reviewed. The potential for future data collection will also be discussed. The public will have the opportunity to ask questions and engage in the discussion.

Authority: 16 U.S.C. 1801 et seq.

Dated: April 20, 2012.
Galen Tromble,
Acting Director, Office of Sustainable Fisheries, National Marine Fisheries Service.

[FR Doc. 2012-9971 Filed 4-20-12; 4:15 pm]

BILLING CODE 3510-22-P